DEPARTMENT OF TRANSPORTATION

Federal Aviation Administration

14 CFR Parts 27 and 29

[Docket No. FAA-2016-6691]

Proposed Inlet Barrier Filter for Rotorcraft Policy Statement

AGENCY: Federal Aviation Administration (FAA), DOT.

ACTION: Notice of public meeting.

SUMMARY: The FAA is announcing a public meeting to gather additional technical input on the subject of installing an engine inlet barrier filter (IBF) on rotorcraft. Input gathered will aid in developing FAA guidance for evaluating engine IBFs installed on rotorcraft. Prior to the public meeting, the FAA previously sought public comments regarding the guidance online.

DATES: The public meeting will be held on the following date. (Note that the meeting may be adjourned early if scheduled speakers complete their presentations early.)

July 7, 2016, from 9:00 a.m. until 12:00 p.m. (The deadline to submit a request to make an oral statement is June 29, 2016.)

Written comments regarding the policy must be received by July 7, 2016.

ADDRESSES: The public meeting will be held at the Hilton Garden Inn, Fort Worth Alliance Airport, 2600 Westport Parkway, Fort Worth, TX 76177. Due to limited space, attendees are requested to please reply (RSVP) to Michael Hughlett, Aviation Safety Engineer, Regulations and Policy Group, Rotorcraft Directorate, FAA, 10101 Hillwood Pkwy., Fort Worth, TX 76177; telephone (817) 222-5889; email michael.hughlett@faa.gov. If computer access is not possible, please RSVP via mail, fax or hand delivery via the methods listed directly below:

• Mail or Hand Delivery: RSVP to Regulations and Policy Group, ASW-111, Federal Aviation Administration, 10101 Hillwood Parkway, Fort Worth, TX 76177.

• Fax: RSVP to ASW-111, ATTN: IBF Policy Meeting (RSVP) at (817) 222-5961.

FOR FURTHER INFORMATION CONTACT: Requests to present a statement at the public meeting and questions regarding the logistics of the meeting should be directed to Michael Hughlett, Regulations and Policy Group, ASW-111, Federal Aviation Administration, 10101 Hillwood Parkway, Fort Worth, TX 76177; telephone (817) 222-5889, facsimile (817) 222-5961, or email at Michael.Hughlett@faa.gov.

SUPPLEMENTARY INFORMATION:

Background

On January 25, 2016, we invited public comments when we posted on the FAA's Web site a draft policy statement regarding the certification of IBF installations on rotorcraft. The draft policy statement identified items that should be considered in IBF installations, including two unique aspects associated with an IBF: (1) Determining the power available with IBF blockage at the impending bypass level; and (2) evaluating the bypass system. The draft policy also sought to clarify the applicability of existing airworthiness standards and guidance to engine IBF installations. The draft policy statement is intended to ensure safe and standardized installations of engine IBFs on rotorcraft.

Because of significant public interest, we extended the initial comment period regarding the policy by 30 days. At the end of the comment period, we had received comments from over 35 interested parties.

Purpose of the Public Meetings

The purpose of the public meeting is for the FAA to hear the public's views and obtain information relevant to the policy under consideration. The FAA will consider comments made at the public meeting (as well as comments submitted to the docket) before making a final decision on issuance of the policy.

Persons wishing to attend this one-time meeting are requested to register in advance. Your registration must detail whether you wish to make a statement during the public meeting. If you do wish to make a statement, your registration must indicate which topic you wish to speak about and what organization you represent. Due to limited space, attendees are requested to please reply (RSVP) to Michael Hughlett via the methods listed above in the ADDRESSES section.

Participation at the Public Meetings

Commenters who wish to present oral statements at the July 7, 2016, public meeting should submit requests to the FAA no later than June 29, 2016. Requests should be submitted as described in the FOR FURTHER INFORMATION CONTACT section of this document and should include a written summary of oral remarks to be presented and an estimate of time needed for the presentation. Preferably, please submit requests via email to: Michael.Hughlett@faa.gov. Requests received after the dates specified above will be scheduled if there is time available during the meeting; however, the speakers' names may not appear on the written agenda. To accommodate as many speakers as possible, the amount of time allocated to each speaker may be less than the amount of time requested to ensure various views can be heard. See “Public Meeting Procedures” below.

The FAA may have available a projector and a computer capable of accommodating Word and PowerPoint presentations. Persons requiring any other kind of audiovisual equipment should notify the FAA when requesting to be placed on the agenda.

The FAA will make every effort to accommodate all persons wishing to attend. Sign and oral interpretation can be made available at the meeting, as well as an assistive listening device, if requested 10 calendar days before the meeting.

Public Meeting Procedures

A panel of representatives from the FAA will be present to facilitate the meeting in accordance with the following procedures:

(1) The meeting is designed to facilitate the public comment process. The meeting will be informal and non-adversarial. No individual will be subject to cross-examination by any other participant. Government representatives on the panel may ask questions to clarify statements and to ensure an accurate record. Any statement made during the meetings by a panel member should not be construed as an official position of the government.

(2) There will be no admission fees or other charges to attend or to participate in the public meeting. The meeting will be open to all persons, subject to availability of space in the meeting room. The FAA asks that participants sign in between 8:30 and 9:00 a.m. on the day of the meeting. The FAA will try to accommodate all speakers; however if available time does not allow this, speakers who have contacted the FAA in advance will be allowed to speak first, others will be scheduled on a first-come-first-served basis. The FAA reserves the right to exclude some speakers, if necessary, to obtain balanced viewpoints. The meeting may adjourn early if scheduled speakers complete their statements in less time than is scheduled for the meeting.

(3) The FAA will prepare agendas of speakers and presenters and make the agendas available at the meeting.

(4) Speaker time slots may be limited to 3-minute statements. If possible, the FAA will notify speakers if additional time is available.

(5) The FAA will review and consider all material presented by participants at the public meeting. Position papers or materials presenting views or information related to the draft policy may be accepted at the discretion of the presiding officer and will be subsequently placed in the public docket. The FAA requests that presenters at the meeting provide at least 10 copies of all materials for distribution to the panel members. Presenters may provide other copies to the audience at their discretion.

(6) We ask each person presenting comments to provide the technical basis to support the comments. The most helpful comments reference a specific portion of the policy statement and explain the reason for any recommended change.

Issued in Fort Worth, Texas, on May 18, 2016.
Jorge R. Castillo,
Acting Manager, Rotorcraft Directorate, Aircraft Certification Service.

[FR Doc. 2016-12526 Filed 5-25-16; 8:45 am]

BILLING CODE 4910-13-P